DEPARTMENT OF COMMERCE

International Trade Administration

[A-570-890]

Antidumping Duty Order on Wooden Bedroom Furniture From the People's Republic of China: Final Results of Changed Circumstances Review

AGENCY: Enforcement and Compliance, International Trade Administration, Department of Commerce.

SUMMARY: On May 19, 2023, the U.S. Department of Commerce (Commerce) published in the Federal Register notice of the preliminary results of this changed circumstances review of the antidumping duty (AD) order on wooden bedroom furniture (WBF) from the People's Republic of China (China). In these final results of the changed circumstances review, Commerce continues to find that Zhangzhou XMB Home Technology Co., Ltd. (Zhangzhou XMB) is the successor-in-interest to Zhangzhou XYM Furniture Product Co., Ltd. (Zhangzhou XYM). Accordingly, subject merchandise exported by Golden Well International (HK), Ltd. (Golden Well) and produced by Zhangzhou XMB will be assigned the same AD cash deposit rate as the AD cash deposit rate established for subject merchandise exported by Golden Well and produced by Zhangzhou XYM.

DATES: Applicable August 14, 2023.

FOR FURTHER INFORMATION CONTACT: Thomas Martin, AD/CVD Operations, Office IV, Enforcement and Compliance, International Trade Administration, U.S. Department of Commerce, 1401 Constitution Avenue NW, Washington, DC 20230; telephone: (202) 482-3936.

SUPPLEMENTARY INFORMATION:

Background

On October 5, 2022, Golden Well and Zhangzhou XMB requested that Commerce conduct a changed circumstances review of the AD order on WBF from China,¹ pursuant to section 751(b)(1) of the Tariff Act of 1930, as amended (the Act) and 19 CFR 351.216 and 351.221(c)(3), and determine that Zhangzhou XMB is the successor-in-interest to Zhangzhou XYM for purposes of the Order.² Golden Well and Zhangzhou XMB stated that the changed circumstances solely involve Zhangzhou XYM changing its name to Zhangzhou XMB.³

¹ See Notice of Amended Final Determination of Sales at Less Than Fair Value and Antidumping Duty Order: Wooden Bedroom Furniture from the People's Republic of China, 70 FR 329 (January 4, 2005) (Order).

² See Golden Well and Zhangzhou XMB's Letter, “Request for Changed Circumstances Review (A-570-890),” dated October 5, 2022.

³ Id. at 2.

On November 22, 2022, Commerce initiated this changed circumstances review.⁴ On May 19, 2023, Commerce published the Preliminary Results of this changed circumstances review in which it found that Zhangzhou XMB is the successor-in-interest to Zhangzhou XYM.⁵ Commerce provided interested parties with an opportunity to comment on the Preliminary Results.⁶ Commerce received no comments.

⁴ See Wooden Bedroom Furniture from the People's Republic of China: Initiation of Antidumping Duty Changed Circumstances Review, 87 FR 71300 (November 22, 2022).

⁵ See Antidumping Duty Order on Wooden Bedroom Furniture from the People's Republic of China: Preliminary Results of Changed Circumstances Review, 88 FR 32195 (May 19, 2023) (Preliminary Results), and accompanying Preliminary Decision Memorandum (PDM).

⁶ Id., 88 FR at 32196.

Scope of the Order

The merchandise covered by the Order is WBF from China. For a full description of the merchandise covered by the scope of Order, see the Preliminary Results.⁷

⁷ See Preliminary Results PDM at Appendix.

Final Results of Changed Circumstances Review

As noted above, Commerce received no comments regarding its Preliminary Results. Accordingly, Commerce made no changes to its Preliminary Results and no decision memorandum accompanies this Federal Register notice.

For the reasons stated in the Preliminary Results, Commerce continues to find that Zhangzhou XMB is the successor-in-interest to Zhangzhou XYM for purposes of the Order. As a result of this determination and consistent with established practice, we find that the combination AD cash deposit rate (i.e., zero percent) for subject merchandise exported by Golden Well and produced by Zhangzhou XYM should be applied to subject merchandise exported by Golden Well and produced by Zhangzhou XMB. Consequently, Commerce will instruct U.S. Customs and Border Protection to require, for all subject merchandise exported by Golden Well and produced by Zhangzhou XMB that is entered, or withdrawn from warehouse, for consumption on or after the publication date of this notice in the Federal Register, a zero percent AD cash deposit, which is the current AD cash deposit rate for subject merchandise exported by Golden Well and produced by Zhangzhou XYM.⁸ This cash deposit requirement shall remain in effect until further notice.

⁸ See Wooden Bedroom Furniture from the People's Republic of China: Amended Final Results of Antidumping Duty Administrative Review and New Shipper Reviews, 74 FR 55810 (October 29, 2009).

Administrative Protective Order

This notice serves as a final reminder to parties subject to an administrative protective order (APO) of their responsibility concerning the disposition of proprietary information disclosed under APO in accordance with 19 CFR 351.305(a)(3). Timely written notification of the return or destruction of APO materials, or conversion to judicial protective order, is hereby requested. Failure to comply with the regulations and terms of an APO is a sanctionable violation.

Notification to Interested Parties

We are issuing this determination and publishing the notice of the final results of this changed circumstances review in accordance with sections 751(b)(1) and 777(i)(1) of the Act and 19 CFR 351.216(e).

Dated: August 8, 2023.
Lisa W. Wang,
Assistant Secretary for Enforcement and Compliance.

[FR Doc. 2023-17410 Filed 8-11-23; 8:45 am]

BILLING CODE 3510-DS-P